DEPARTMENT OF HOUSING AND URBAN DEVELOPMENT

24 CFR Parts 887 and 984

[Docket No. FR-6114-P-02]

RIN 2577-AD09

Streamlining and Implementation of Economic Growth, Regulatory Relief, and Consumer Protection Act Changes to Family Self-Sufficiency (FSS) Program; Re-Opening Public Comment Period on the Information Collection Requirements

AGENCY: Office of the Assistant Secretary for Public and Indian Housing, HUD, and Office of the Assistant Secretary for Housing—Federal Housing Commissioner, HUD.

ACTION: Proposed rule; re-opening of comment period.

SUMMARY: On September 21, 2020, HUD published a proposed rule on streamlining and implementing the Economic Growth, Regulatory Relief, and Consumer Protection Act (“the Economic Growth Act”), which would make changes to HUD's Family Self-Sufficiency (FSS) Program. After the publication of that proposed rule, HUD determined that changes to the information collection requirements described in it would be necessary. This supplemental notice of proposed rulemaking therefore re-opens the public comment period on the Streamlining and Implementation of Economic Growth, Regulatory Relief, and Consumer Protection Act Changes to Family Self-Sufficiency (FSS) Program proposed rule (“the 2020 proposed rule”) for an additional 30 days solely to seek comments on revisions to the Paperwork Reduction Act information collection requirements from the 2020 proposed rule. HUD is not soliciting comment on any other issues related to the 2020 proposed rule.

DATES: The comment period for the proposed rule published September 21, 2020, at 85 FR 59234, is re-opened. Comment Due Date: December 15, 2021.

ADDRESSES: Interested persons are invited to submit comments regarding this proposed rule. Copies of all comments submitted are available for inspection and downloading at www.regulations.gov. To receive consideration as public comments, comments must be submitted through one of two methods, specified below. All submissions must refer to the above docket number and title.

1. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

2. Submission of Comments by Mail. Comments may be submitted by mail to the Regulations Division, Office of General Counsel, Department of Housing and Urban Development, 451 7th Street SW, Room 10276, Washington, DC 20410 0500.

FOR FURTHER INFORMATION CONTACT: Aaron Santa Anna, Associate General Counsel for Legislation and Regulations, Office of General Counsel, Department of Housing and Urban Development, 451 7th Street SW, Room 10282, Washington, DC 20410; telephone number 202-402-5300 (this is not a toll-free number). Individuals with hearing- or speech-impairments may access this number via TTY by calling the toll-free Federal Relay Service during working hours at 1-800-877-8339.

SUPPLEMENTARY INFORMATION:

I. Background

On September 21, 2020, at 85 FR 59234, HUD published a proposed rule titled “Streamlining and Implementation of Economic Growth, Regulatory Relief, and Consumer Protection Act Changes to Family Self-Sufficiency (FSS) Program.” The 2020 proposed rule would revise the FSS Program regulations to implement statutory requirements, and to reduce burden and streamline the program for PHAs, Multifamily owners, and eligible families. The public comment period closed on November 20, 2020, and HUD received 105 public comments in response to the 2020 proposed rule.

HUD has since determined that changes to the information collection requirements described in the 2020 proposed rule would be necessary for implementation of the rule, or would help the program operate more efficiently. Specifically, HUD notes that all entities that currently operate FSS programs would have to update their Action Plans one time after the new rule becomes effective in order to incorporate regulatory changes, and that PHAs would be required to complete a monitoring self-review checklist for program compliance and reporting once every five years. Additionally, while the 2020 proposed rule noted that the information collection requirements would include paperwork for Multifamily owners, it did not explicitly account for Project-Based Rental Assistance (PBRA) FSS Program Reporting in the description of the information collection.

Additionally, HUD is revising recordkeeping and recording burden estimates for other collection information instruments that were discussed in the 2020 proposed rule. First, HUD anticipates that more funding may be appropriated for the FSS program than HUD anticipated when the 2020 proposed rule was published. Specifically, HUD anticipates that funding will be adequate to support 800 grantees. As a result, HUD is increasing from 750 to 800 the estimate of responses to the SF-424 (“Application for Federal Assistance”). HUD is adjusting to 800 the estimate of responses to the Grant Agreement and the Annual Report/Performance Report. Of these 800 grantees, HUD estimates that approximately 100 will be new grantees. As such, HUD revises the estimate for responses for the NOFA narrative and for Form HUD-52651 (“Family Self-Sufficiency (FSS) Program Coordinator Funding”) to 100. Similarly, HUD estimates that 100 new grantees will submit new Action Plans and estimates that the development of new plans will take 10 hours each. Estimating that about half of these 100 new grantees will be PHAs and the other half will be Multifamily owners, and therefore 750 grantees will be PHAs, HUD estimates that there will be 750 annual respondents for Form HUD-50058 (“Family Report”) and Form HUD-52652 (“Sample FSS Escrow Account Credit Worksheet”). As a result of expected additional FSS funding, HUD has also adjusted the expected number of responses for Cooperative Agreements up to 25 from 15, and the number of responses for Form HUD-52650 (“Family Self-Sufficiency (FSS) Program Contract of Participation”) up to 1,500 from 1,000. Additionally, HUD is removing the burden estimate that appeared in the proposed rule for Form HUD-2994-A (“You are Our Client! Grant Applicant Survey”) (optional), because the form is not in use and is revising the estimated number of responses for Form HUD-52755 (“Sample Contract Administrative Partnership Agreement”) down to 5 from 20, because this form is used only in rare occasions as a corrective action. Finally, HUD is revising the burden hour estimate for this collection for the SF-424 and SF-LLL forms to 0, because their burden is included in different collections.

This supplemental notice of proposed rulemaking re-opens the public comment period on the Streamlining and Implementation of Economic Growth, Regulatory Relief, and Consumer Protection Act Changes to Family Self-Sufficiency (FSS) Program proposed rule for an additional 30 days solely to seek comments on revisions to the Paperwork Reduction Act information collection requirements from the 2020 proposed rule. HUD is not soliciting comment on any other issues related to the 2020 proposed rule.

II. Paperwork Reduction Act

In accordance with the Paperwork Reduction Act of 1995 (44 U.S.C. 3501-3520), an agency may not conduct or sponsor, and a person is not required to respond to, a collection of information unless the collection displays a valid control number. The information collection requirements contained in this supplemental notice of proposed rulemaking will be submitted to the Office of Management and Budget (OMB) under the Paperwork Reduction Act of 1995 (44 U.S.C. 3501-3520).

The 2020 proposed rule noted that it would require changes to the existing approved paperwork to include PBRA, the addition of a Notice of Funding Availability (NOFA) (now called a “Notice of Funding Opportunity” or “NOFO”) narrative, and the Cooperative Agreement.

After further review, HUD has determined that the revised overall reporting and recordkeeping burden are estimated as follows:

Description of information collection | Number of responses | Responses per year | Total annual responses | Hours per response | Total hours
SF-424—Application for Federal Assistance | 800 | 1 | 800 | 0 | 0
SF-LLL—Disclosure of Lobbying Activities | 40 | 1 | 40 | 0 | 0
Form HUD 2880—Applicant, Recipient, Disclosure, Update Form (OMB No. 2510-0011) ¹ | 800 | 1 | 800 | 0 | 0
NOFO Narrative | 100 | 1 | 100 | 10 | 1,000
Cooperative Agreements | 25 | 1 | 25 | 2 | 50
Form HUD-52755—Sample Contract Admin. Partnership Agreement | 5 | 1 | 5 | 0.17 | .85
Form HUD-52651—FSS Application | 100 | 1 | 100 | 1.5 | 150
Action Plan—New Grantees | 100 | 1 | 100 | 10 | 1,000
Action Plan—One time Update for One year Only After the new Regulation is effective | 700 | 1 | 700 | 5 | 3,500
Form HUD-52650—Contract of Participation | 1,500 | 1 | 1,500 | .25 | 375
Form HUD-52652—Sample Escrow Account Credit Worksheet | 750 | 100 | 75,000 | .85 | 63,750
Notice of Award and Terms & Conditions (AKA Grant Agreement *) | 800 | 1 | 700 | N/A | N/A
Annual Report (Narrative)/Performance Report | 800 | 1 | 800 | 1 | 800
Form HUD-50058—Family Report (OMB No. 2577-0083) | 750 | 100 | 75,000 | 0 | 0
Monitoring Review Self-Assessment Checklist | 750 | .20 | 150 | 2 | 300
PBRA FSS Program Reporting | 200 | 1 | 200 | 1 | 200
Total |  |  |  | 33.7 | 71,126
* HUD-1044, Award/Amendment is completed by HUD staff, signed by the recipient of the grant, and returned to HUD. This form is a certification, and HUD ascribes no burden to its use.
¹ Burden hours for forms showing zero burden hours in this collection are reflected in the OMB approval number cited or do not have a reportable burden.

III. Questions for Public Comment

In accordance with 5 CFR 1320.8(d)(1), HUD is soliciting comments from members of the public and affected agencies concerning the information collection requirements in this supplemental notice of proposed rulemaking regarding:

(1) Whether the proposed collection of information is necessary for the proper performance of the functions of the agency, including whether the information will have practical utility;

(2) The accuracy of the agency's estimate of the burden of the proposed collection of information;

(3) Whether the proposed collection of information enhances the quality, utility, and clarity of the information to be collected; and

(4) Whether the proposed information collection minimizes the burden of the collection of information on those who are to respond; including through the use of appropriate automated collection techniques or other forms of information technology (e.g., permitting electronic submission of responses).

Aaron Santa Anna,
Associate General Counsel for Legislation and Regulations.

[FR Doc. 2021-24636 Filed 11-12-21; 8:45 am]

BILLING CODE 4210-67-P